DEPARTMENT OF DEFENSE

Defense Acquisition Regulations System

48 CFR Part 237

Service Contracting

CFR Correction

In Title 48 of the Code of Federal Regulations, Chapter 2, Parts 200 to 299, revised as of October 1, 2014, on page 296, in section 237.102-70, paragraph (d)(2) is reinstated to read as follows:

§ 237.102-70 Prohibition on contracting for firefighting or security-guard functions.

* * * * *

(d) * * *

* * * * *

(2) Follow the procedures at PGI 237.102-70(d) to ensure that the personnel limitations specified in paragraph (d)(1)(iv) of this subsection are not exceeded.

[FR Doc. 2015-23458 Filed 9-17-15; 8:45 am]

BILLING CODE 1505-01-P